DEPARTMENT OF ENERGY

Federal Energy Regulatory Commission

Combined Notice of Filings #1

Take notice that the Commission received the following electric corporate filings:

Docket Numbers: EC12-50-000

Applicants: Alta Wind VIII, LLC, BAIF U.S. Renewable Power Holdings LLC

Description: Application for Authorization for Disposition of Jurisdictional Facilities under Section 203 of the Federal Power Act and Request for Expedited Action of Alta Wind VIII, LLC, et al.

Filed Date: 12/14/11

Accession Number: 20111214-5192

Comments Due: 5 p.m. ET 1/4/12

Docket Numbers: EC12-51-000

Applicants: Rensselaer Holdings, LLC, Rensselaer Cogeneration LLC

Description: Application for Authorization of Proposed Transaction of Rensselaer Holdings, LLC and Rensselaer Cogeneration LLC by Couch White, LLP.

Filed Date: 12/15/11

Accession Number: 20111215-5143

Comments Due: 5 p.m. ET 1/5/12

Take notice that the Commission received the following electric rate filings:

Docket Numbers: ER11-3967-002

Applicants: Southwest Power Pool, Inc.

Description: Order No. 741 Compliance Filing to be effective 10/1/2011.

Filed Date: 12/14/11

Accession Number: 20111214-5155

Comments Due: 5 p.m. ET 1/4/12

Docket Numbers: ER11-3970-002

Applicants: Midwest Independent Transmission System Operator, Inc.

Description: 12-14-11 Credit Reform Compliance Filing to be effective 10/1/2011.

Filed Date: 12/14/11

Accession Number: 20111214-5169

Comments Due: 5 p.m. ET 1/4/12

Docket Numbers: ER11-4486-001

Applicants: ITC Midwest LLC

Description: ITC Midwest LLC submits tariff filing per 35.17(b): Response to a Deficiency Letter to be effective 11/9/2011.

Filed Date: 12/15/11

Accession Number: 20111215-5112

Comments Due: 5 p.m. ET 1/5/12

Docket Numbers: ER12-445-001

Applicants: PJM Interconnection, L.L.C.

Description: PJM Interconnection, L.L.C. submits tariff filing per 35.17(b): Errata Filing to PJM Tariff Sched. 12 Appendices re the RTEP Docket No. ER12-445 to be effective 2/16/2012.

Filed Date: 12/15/11

Accession Number: 20111215-5141

Comments Due: 5 p.m. ET 1/5/12

Docket Numbers: ER12-608-000

Applicants: Southwest Power Pool, Inc.

Description: Revisions to Att. X, Article Three—Minimum Criteria for Market Participation to be effective 1/1/2012.

Filed Date: 12/14/11

Accession Number: 20111214-5182

Comments Due: 5 p.m. ET 1/4/12

Docket Numbers: ER12-609-000

Applicants: ISO New England Inc., New England Power Pool Participants Committee

Description: ISO New England Inc. submits tariff filing per 35.13(a)(2)(iii: Load Reconstitution for Demand Resources to be effective 3/1/2012.

Filed Date: 12/15/11

Accession Number: 20111215-5070

Comments Due: 5 p.m. ET 1/5/12

Docket Numbers: ER12-610-000

Applicants: Shiloh III Lessee, LLC

Description: Shiloh III Lessee, LLC submits tariff filing per 35.12: Shiloh III Lessee Baseline MBR Application Filing to be effective 12/16/2011.

Filed Date: 12/15/11

Accession Number: 20111215-5085

Comments Due: 5 p.m. ET 1/5/12

Docket Numbers: ER12-611-000

Applicants: Shiloh III Wind Project, LLC

Description: Shiloh III Wind Project, LLC submits tariff filing per 35.15: Shiloh III Wind Project FERC Electric Tariff Cancellation to be effective 12/31/9998.

Filed Date: 12/15/11

Accession Number: 20111215-5098

Comments Due: 5 p.m. ET 1/5/12

Docket Numbers: ER12-612-000

Applicants: Southwest Power Pool, Inc.

Description: Southwest Power Pool, Inc.'s Notice of Cancellation of Large Generator Interconnection Agreement.

Filed Date: 12/15/11

Accession Number: 20111215-5103

Comments Due: 5 p.m. ET 1/5/12

Docket Numbers: ER12-613-000

Applicants: FirstEnergy Service Company, FirstEnergy Solutions Corp.

Description: Request for Authorization to Make Wholesale Power Sales to an Affiliate Based on June 8, 2011 Bids of FirstEnergy Solutions Corp., et al.

Filed Date: 12/15/11

Accession Number: 20111215-5121

Comments Due: 5 p.m. ET 1/5/12

Docket Numbers: ER12-614-000

Applicants: FirstEnergy Solutions Corp., FirstEnergy Services Company

Description: Request for Authorization to Make Wholesale Power Sales to an Affiliate Based on October 26, 2011 Bids of FirstEnergy Solutions Corp., et al.

Filed Date: 12/15/11

Accession Number: 20111215-5123

Comments Due: 5 p.m. ET 1/5/12

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 15, 2011.
Nathaniel J. Davis, Sr.,
Deputy Secretary.

[FR Doc. 2011-32883 Filed 12-22-11; 8:45 am]

BILLING CODE 6717-01-P